DEPARTMENT OF ENERGY

Federal Energy Regulatory Commission

[Project No. 1858-023]

Beaver City Corporation; Notice of Application Tendered for Filing With the Commission and Soliciting Additional Study Requests and Cooperating Agencies and Establishing Procedural Schedule for Relicensing and a Deadline for Submission of Final Amendments

Take notice that the following hydroelectric application has been filed with the Commission and is available for public inspection.

a. Type of Application: New Minor License.

b. Project No.: 1858-023.

c. Date filed: July 30, 2021.

d. Applicant: Beaver City Corporation.

e. Name of Project: Beaver City Canyon Plant No. 2 Hydroelectric Project.

f. Location: On the Beaver River, in Beaver County, Utah, about 5 miles east of the city of Beaver. The project currently occupies 10.18 acres of federal land administered by the U.S. Forest Service, and 1.87 acres of federal land managed by the U.S. Bureau of Land Management. As proposed, the project would occupy 11.5 acres of federal land administered by the U.S. Forest Service.

g. Filed Pursuant to: Federal Power Act 16 U.S.C. 791 (a)-825(r).

h. Applicant Contact: Jason Brown, Beaver City Manager, 30 West 300 North, Beaver, UT 84713; (435) 438-2451.

i. FERC Contact: Evan Williams at (202) 502-8462, or at evan.williams@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 28, 2021.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Beaver City Canyon Plant No. 2 Hydroelectric Project (P-1858-023).

m. The application is not ready for environmental analysis at this time.

n. Project Description: The existing project consists of: (1) A 17-foot-high by 65-foot-wide diversion dam; (2) a 30-inch-diameter, 11,450-foot-long black steel penstock; (3) a 34-foot-long by 41-foot-wide stone powerhouse containing an impulse turbine and one generating unit with an installed capacity of 625 kilowatts; (4) a 4-foot-wide by 150-foot-long tailrace channel; (5) a 12.5-kilovolt, approximately 21,000-foot-long transmission line; and (6) appurtenant facilities. Beaver City Corporation proposes to abandon the existing powerhouse and tailrace and construct: (1) A new 40-foot-long by 27-foot-wide powerhouse to contain a new turbine-generator with an installed capacity of 720 kilowatts, and (2) a new approximately 50-foot-long by approximately 7.5-foot-wide to 19-foot-wide tailrace. The new powerhouse and tailrace would be constructed approximately 50 feet upstream of the existing powerhouse, and the existing powerhouse would be retained within the project boundary as an historic structure. Beaver City Corporation also proposes to remove approximately 20,930 feet of the existing 12.5-kilovolt transmission line from the project.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-1858-023). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter/Request for Additional Information | September 2021.
Issue Acceptance Letter | December 2021.
Issue Scoping Document 1 | January 2022.
Request for Additional Information (if necessary) | March 2022.
Issue Scoping Document 2 (if necessary) | April 2022.
Notice of Ready for Environmental Analysis | April 2022.

Final amendments to the application must be filed with the Commission no later than 30 days from the issuance date of the notice of ready for environmental analysis.

Dated: August 13, 2021.
Kimberly D. Bose,
Secretary.

[FR Doc. 2021-17786 Filed 8-18-21; 8:45 am]

BILLING CODE 6717-01-P